DEPARTMENT OF HOUSING AND URBAN DEVELOPMENT

[Docket No. FR-4837-D-53]

Delegation of Procurement Authority and Designation of Senior Procurement Executive and Chief Acquisition Officer

AGENCY: Office of the Secretary, HUD.

ACTION: Notice of delegation of authority.

SUMMARY: In this notice, the Secretary of HUD delegates all procurement authority to the Chief Procurement Officer. The Chief Procurement Officer will continue to serve as the Department's Senior Procurement Executive. The Secretary also designates the Deputy Secretary as the Department's Chief Acquisition Officer.

DATES: Effective Date: February 1, 2005.

FOR FURTHER INFORMATION CONTACT: Gloria Sochon, Assistant Chief Procurement Officer for Policy and Systems, Office of the Chief Procurement Officer, 451 Seventh Street, SW., Room 5276, Washington, DC 20410-3000, (202) 708-0294 (this is not a toll-free number). Persons with hearing or speech impairments may access this number through TTY by calling the toll-free Federal Information Relay Service at 800-877-8339 (this is not a toll-free number).

SUPPLEMENTARY INFORMATION: The Secretary is issuing this delegation to eliminate duplicative delegation of procurement authority to the Assistant Secretary for Administration/Chief Information Officer and the Chief Procurement Officer (CPO). This notice also implements Section 1421 of the Services Acquisition Reform Act of 2003 by designating the Deputy Secretary as the Department's Chief Acquisition Officer. The CPO will report directly to the Deputy Secretary and will be responsible for all departmental procurement activities. The CPO is also designated as the Senior Procurement Executive. This delegation changes only the reporting level of the CPO position pursuant to the Department's implementation of Section 1421. This delegation does not add, eliminate, or redistribute any functions or duties within the Office of the CPO.

Accordingly, the Secretary of Housing and Urban Development hereby revokes, designates, and delegates as follows:

Section A. Authority Revoked

This notice revokes the Notice of Delegation of Authority published in the Federal Register on August 20, 2003 (68 FR 50157), which delegated all procurement authority to both the Assistant Secretary for Administration/Chief Information Officer and the CPO, delegated to the Assistant Secretary for Administration/Chief Information Officer responsibility for administrative oversight of all departmental procurement activities, and designated the CPO as the Senior Procurement Executive.

Section B. Designation and Delegation of Authority

The Deputy Secretary is designated as the Department's Chief Acquisition Officer.

The CPO continues to serve as the Department's Senior Procurement Executive and is delegated the authority to exercise all duties, responsibilities, and powers of the Secretary with respect to departmental procurement activities. The authority delegated to the CPO includes the following duties, responsibilities, and powers:

1. Authority to enter into, administer, or terminate all procurement contracts, as well as interagency agreements entered into under the authority of the Economy Act, and make related determinations and findings. This includes the authority to order, pursuant to HUD's regulations at 24 CFR part 24, the sanctions of debarment, suspension, or limited denial of participation.

2. Responsibility for procurement program development, including:

a. Implementation of procurement initiatives, best practices, and reforms;

b. In coordination with the Office of Federal Procurement Policy, determination of specific areas where governmentwide performance standards should be established and applied, and development of governmentwide procurement policies, regulations, and standards;

c. Establishment and maintenance of an evaluation program for all procurement activities within the Department;

d. Development of programs to enhance the professionalism of the Department's procurement work force, including the establishment of educational, training, and experience requirements for procurement personnel; and

e. Development of all departmental procurement policy, regulations, and procedures.

Section C. Authority To Issue Rules and Regulations

The CPO is authorized to issue rules and regulations as may be necessary to carry out the authority delegated under Section B.

Section D. Authority To Redelegate

The authority delegated to the CPO under Section B may be redelegated to qualified employees of the Department.

Authority: 41 U.S.C. 414; Section 7(d) of the Department of Housing and Urban Development Act (42 U.S.C. 3535(d)).

Editorial Note: This document was received at the Office of the Federal Register February 8, 2007.

Dated: February 1, 2005.
Alphonso Jackson,
Secretary.

[FR Doc. E7-2499 Filed 2-13-07; 8:45 am]

BILLING CODE 4210-67-P